DEPARTMENT OF ENERGY

Federal Energy Regulatory Commission

[Docket No. EL18-198-000]

Notice of Request for Partial Waiver; Kansas Power Pool

Take notice that on September 6, 2018, pursuant to section 292.402 of the Federal Energy Regulatory Commission's (Commission) Rules of Practice and Procedure,¹ the Kansas Power Pool (KPP) on behalf of itself and its authorizing member municipal cities (Authorizing Members), filed a request for partial waiver of certain obligations imposed on KPP and its Authorizing Members through the Commission's regulations ² implementing section 210 of the Public Utility Regulatory Policies Act of 1978, all as more fully explained in the request.

¹ 18 CFR 292.402.

² 18 CFR 292.303(a) and 292.303(b).

Any person desiring to intervene or to protest this filing must file in accordance with Rules 211 and 214 of the Commission's Rules of Practice and Procedure (18 CFR 385.211and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern time on September 27, 2018.

Dated: September 7, 2018.
Nathaniel J. Davis, Sr.,
Deputy Secretary.

[FR Doc. 2018-19997 Filed 9-13-18; 8:45 am]

BILLING CODE 6717-01-P